DEPARTMENT OF THE INTERIOR

Bureau of Land Management

[AK-910-1410-PG]

Alaska Resource Advisory Council Meeting

AGENCY: Bureau of Land Management, Interior

ACTION: Notice of Alaska resource Advisory council meeting.

SUMMARY: The BLM Alaska Resource Advisory Council will conduct an open meeting Thursday, April 19, 2001, from 9 a.m. until 4 p.m. and Friday, April 20, 2001, from 8:30 a.m. until noon. The meeting will be held in the Anchorage Federal Building at 7th and C Street in BLM offices on the fourth floor.

Primary agenda items for this meeting are resource management standards for BLM public lands and review of the State conveyance priority process. The council will hear public comments on Thursday, April 19, 2001, from 1-2 p.m. Written comments may be mailed to BLM at the address below.

ADDRESSES: Inquiries or comments should be sent to BLM External Affairs, 222 W. 7th Avenue, #13, Anchorage, AK 99513-7599.

FOR FURTHER INFORMATION CONTACT: Teresa McPherson, 907-271-3322, or via e-mail to _ teresa—mcpherson@ak.blm.gov.

Francis R. Cherry, Jr.,
State Director.

[FR Doc. 01-7037 Filed 3-20-01; 8:45 am]

BILLING CODE 4310-JA-M